DEPARTMENT OF COMMERCE

International Trade Administration

[A-570-930]

Circular Welded Austenitic Stainless Pressure Pipe From the People's Republic of China: Continuation of Antidumping Duty Order

AGENCY: Enforcement and Compliance, Department of Commerce.

SUMMARY: As a result of the determinations by the Department of Commerce (the “Department”) and the International Trade Commission (the “ITC”) that revocation of the antidumping duty order on circular welded austenitic stainless pressure pipe (“circular welded pressure pipe”) from the People's Republic of China (“PRC”) would likely lead to a continuation or recurrence of dumping and material injury to an industry in the United States, the Department is publishing a notice of continuation of this antidumping duty order.

DATES: Effective Date: July 23, 2014.

FOR FURTHER INFORMATION CONTACT: Lori Apodaca or Howard Smith, AD/CVD Operations, Office IV, Enforcement and Compliance, International Trade Administration, U.S. Department of Commerce, 14th Street and Constitution Avenue NW., Washington, DC 20230; telephone: 202-482-4551 or 202-482-5193, respectively.

SUPPLEMENTARY INFORMATION:

Background

On February 3, 2014, the Department published the notice of initiation of the first sunset review of the antidumping duty order on circular welded pressure pipe from the PRC, pursuant to section 751(c) of the Tariff Act of 1930, as amended (the “Act”).¹ As a result of its review, the Department determined that revocation of the antidumping duty order on circular welded pressure pipe from the PRC would likely lead to continuation or recurrence of dumping and notified the ITC of the magnitude of the margins of dumping likely to prevail should the order be revoked.² On July 14, 2014, the ITC published its determination, pursuant to section 751(c) of the Act, that revocation of the antidumping duty order on circular welded pressure pipe from the PRC would likely lead to a continuation or recurrence of material injury to an industry in the United States within a reasonably foreseeable time.³

Scope of the Order

¹ See Initiation of Five-Year (“Sunset”) Review, 79 FR 6163 (February 3, 2014).

² See Circular Welded Austenitic Stainless Pressure Pipe from the People's Republic of China: Final Results of the Expedited First Sunset Review of the Antidumping Duty Order, 79 FR 32913 (June 9, 2014).

³ See Welded Stainless Pressure Pipe From China, 79 FR 40779 (July 14, 2014).

The merchandise covered by this order is circular welded austenitic stainless pressure pipe not greater than 14 inches in outside diameter. This merchandise includes, but is not limited to, the American Society for Testing and Materials (ASTM) A-312 or ASTM A-778 specifications, or comparable domestic or foreign specifications. ASTM A-358 products are only included when they are produced to meet ASTM A-312 or ASTM A-778 specifications, or comparable domestic or foreign specifications. Excluded from the scope are: (1) Welded stainless mechanical tubing, meeting ASTM A-554 or comparable domestic or foreign specifications; (2) boiler, heat exchanger, superheater, refining furnace, feedwater heater, and condenser tubing, meeting ASTM A-249, ASTM A-688 or comparable domestic or foreign specifications; and (3) specialized tubing, meeting ASTM A-269, ASTM A-270 or comparable domestic or foreign specifications.

The subject imports are normally classified in subheadings 7306.40.5005; 7306.40.5040, 7306.40.5062, 7306.40.5064, and 7306.40.5085 of the Harmonized Tariff Schedule of the United States (HTSUS). They may also enter under HTSUS subheadings 7306.40.1010; 7306.40.1015; 7306.40.5042, 7306.40.5044, 7306.40.5080, and 7306.40.5090. The HTSUS subheadings are provided for convenience and customs purposes only, the written description of the scope of this order is dispositive.

Continuation of the Order

As a result of the determinations by the Department and the ITC that revocation of the antidumping duty order would likely lead to a continuation or recurrence of dumping and material injury to an industry in the United States, pursuant to section 751(d)(2) of the Act, the Department hereby orders the continuation of the antidumping duty order on circular welded pressure pipe from the PRC. U.S. Customs and Border Protection will continue to collect cash deposits for estimated antidumping duties at the rates in effect at the time of entry for all imports of subject merchandise. The effective date of the continuation of the order will be the date of publication in the Federal Register of this notice of continuation. Pursuant to section 751(c)(2) of the Act, the Department intends to initiate the next five-year review of the order not later than 30 days prior to the fifth anniversary of the effective date of this continuation.

Notice to Interested Parties

This five-year sunset review and this notice are in accordance with section 751(c) of the Act and published pursuant to section 777(i)(1) of the Act and 19 CFR 351.218(f)(4).

Dated: July 15, 2014.
Paul Piquado,
Assistant Secretary for Enforcement and Compliance.

[FR Doc. 2014-17349 Filed 7-22-14; 8:45 am]

BILLING CODE 3510-DS-P